FEDERAL DEPOSIT INSURANCE CORPORATION

12 CFR Part 339

RIN 3064-AE27

Loans in Areas Having Special Flood Hazards

AGENCY: Federal Deposit Insurance Corporation.

ACTION: Correcting amendment.

SUMMARY: This document contains a correction to the final regulations which were published in the Federal Register of Tuesday, July 21, 2015 (80 FR 43216). The regulations related to Loans in Areas Having Special Flood Hazards.

DATES: Effective February 5, 2016.

FOR FURTHER INFORMATION CONTACT: Navid Choudhury, Counsel, Consumer Compliance Section, Legal Division, (202) 898-6526 or nchoudhury@fdic.gov; or John Jackwood, Senior Policy Analyst, Division of Depositor and Consumer Protection, (202) 898-3991or jjackwood@fdic.gov.

SUPPLEMENTARY INFORMATION:

Background

The final regulations that are the subject of this correction implement certain provisions of the Biggert-Waters Flood Insurance Reform Act of 2012 and the Homeowner Flood Insurance Affordability Act of 2014.

Need for Correction

As published, the final regulations contain an error which may prove to be misleading and needs to be clarified.

List of Subjects in 12 CFR Part 339

Flood insurance, Reporting and recordkeeping requirements, Savings associations.

Accordingly, 12 CFR part 339 is corrected by making the following amendments:

PART 339—LOANS IN AREAS HAVING SPECIAL FLOOD HAZARDS

1. The authority citation for part 339 is added to read as follows:

Authority: 12 U.S.C. 1462a, 1463, 1464, 1819 (Tenth), 5412(b)(2)(C) and 42 U.S.C. 4012a, 4104a, 4104b, 4106, and 4128.

2. Revise the definition of “FDIC-supervised institution” in § 339.2 to read as follows:

§ 339.2 Definitions.

* * * * *

FDIC-supervised institution means any insured depository institution for which the Federal Deposit Insurance Corporation is the appropriate Federal banking agency pursuant to section 3(q) of the Federal Deposit Insurance Act, 12 U.S.C. 1813(q).

* * * * *

Dated: February 2, 2016.
Federal Deposit Insurance Corporation.
Robert E. Feldman,
Executive Secretary.

[FR Doc. 2016-02236 Filed 2-4-16; 8:45 am]

BILLING CODE 6714-01-P